DEPARTMENT OF EDUCATION

[CFDA No.: 84.344]

Office of Postsecondary Education; TRIO Dissemination Partnership (TRIO Dissemination) Program; Notice Inviting Applications for New Awards for Fiscal Year (FY) 2003

Purpose of Program: The TRIO Dissemination Program provides grants to TRIO Program grantees to enable them to work with institutions and organizations that are serving low-income and first-generation college students, but do not have TRIO Program grants. The purpose of the TRIO Dissemination Program is to promote the replication or adaptation of successful TRIO Program components, practices, strategies, and activities by institutions and organizations that are not TRIO Program grantees. The TRIO Programs consist of Talent Search, Educational Opportunity Centers, Upward Bound, Student Support Services, Ronald E. McNair Postbaccalaureate Achievement Programs, and the Training Program for Federal TRIO Programs.

For FY 2003, we encourage applicants to design projects that focus on the invitational priorities in the Priorities section of this application notice.

Eligible Applicants: Institutions of higher education and private and public institutions and organizations that were carrying out a Federal TRIO grant before October 7, 1998, the date of enactment of the Higher Education Amendments of 1998.

Applications Available: March 6, 2003.

Deadline for Transmittal of Applications: April 7, 2003.

Deadline for Intergovernmental Review: June 9, 2003.

Estimated Available Funds: $5,500,000.

SUPPLEMENTARY INFORMATION: All previously funded grantees under this program are eligible to apply under this competition. However, no prior experience points will be awarded. In addition, as the purpose of the Dissemination Program is to increase the impact of the TRIO Programs in order to reach more TRIO-eligible students, previously funded grantees must identify new partners and, as appropriate, select a new component or strategy.

Estimated Range of Awards: $150,000-$200,000 for Year 1 of the project period.

Estimated Average Size of Awards: $179,000 per year.

Maximum Award: We will reject any application that proposes a budget exceeding $200,000 for Year 1 of the project period. The Assistant Secretary for Postsecondary Education may change the maximum amount through a notice published in the Federal Register.

Estimated Number of Awards: 25-30.

Note: The Department is not bound by any of the estimates in this notice.

Project Period: Up to 36 months.

Page Limit: The application narrative (Part III of the application) is where you, the applicant, address the selection criteria reviewers use to evaluate your application. You must limit Part III to the equivalent of no more than 45 pages, using the following standards:

• A “page” is 8.5″ by 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, or the letters of support. However, you must include all of the application narrative in Part III.

We will reject your application if—

• You apply these standards and exceed the page limit; or

• You apply other standards and exceed the equivalent of the page limit.

Applicable Regulations: (a) The Education Department General Administrative Regulations (EDGAR) in 34 CFR parts 74, 75, 77, 79, 80, 81, 82, 85, 86, 97, 98, and 99.

Priorities

Invitational Priorities: We are particularly interested in applications that meet one or more of the following invitational priorities.

Invitational Priority 1—Advance the Awareness of Underserved Groups in the Benefits of TRIO Programs

Projects that have developed successful partnerships with institutions and organizations serving significant numbers or percentages of TRIO-eligible students in economically depressed areas for the purposes of increasing access, retention and completion rates of these students in secondary and postsecondary education. TRIO institutions and organizations that have been successful in making the TRIO programs more visible and accessible to these potential participants are encouraged to assist other institutions in adopting successful intervention models.

Invitational Priority 2—Effective Use of Educational Technology

Projects designed to share effective strategies for using technology in a variety of ways, including innovative technology-based instructional programs; use of technology to provide better access to educational opportunities; and technology-based programs to equip disadvantaged students with the knowledge and skills to compete for jobs in the emerging world economy that require the use of new and sophisticated technologies.

Invitational Priority 3—Business and Community Partnerships and K-12 Collaborations

Projects to assist communities with large numbers of low-income, first-generation college students to develop effective business and community partnerships and K-12 collaborations.

Invitational Priority 4—Increased Participation of Underrepresented Groups in Graduate Study

Projects designed to share successful TRIO strategies for increasing the access, retention, and completion rates of low-income, first generation college students and students from the following ethnic and racial groups that are currently underrepresented in graduate education: Black (non-Hispanic), Hispanic, American Indian, and Alaska Native.

Under 34 CFR 75.105(c)(1) we do not give an application that meets the invitational priorities a competitive or absolute preference over other applications.

FOR APPLICATIONS AND FURTHER INFORMATION CONTACT: Eileen S. Bland or Virginia Mason, Office of Federal TRIO Programs, U.S. Department of Education, 1990 K Street, NW., Suite 7000, Washington, DC 20006-8510. Telephone: (202) 502-7600 or via Internet: TRIO@ed.gov.

If you use a telecommunications device for the deaf (TDD), you may call the Federal Information Relay Service (FIRS) at 1-800-877-8339.

Individuals with disabilities may obtain this document in an alternative format (e.g., Braille, large print, audiotape, or computer diskette) on request to the contact person listed under FOR APPLICATIONS AND FURTHER INFORMATION CONTACT.

Individuals with disabilities also may obtain a copy of the application package in an alternative format by contacting those persons. However, the Department is not able to reproduce in an alternative format the standard forms included in the application package.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 20 U.S.C. 1070a-11 and 1070a-18.

Dated: March 3, 2003.
Sally L. Stroup,
Assistant Secretary, Office of Postsecondary Education.

[FR Doc. 03-5283 Filed 3-5-03; 8:45 am]

BILLING CODE 4000-01-P